DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for a project extending the METRO Green Line from downtown Minneapolis through the communities of St. Louis Park, Hopkins, Minnetonka, and Eden Prairie, passing near Edina, Minnesota. The purpose of this notice is to announce publicly the environmental decisions by FTA on the subject project and to activate the limitation on any claims that may challenge this final environmental action.

DATES: By this notice, FTA is advising the public of final agency actions subject to Section 139(l) of Title 23, United States Code (U.S.C.). A claim seeking judicial review of FTA actions announced herein for the listed public transportation project will be barred unless the claim is filed on or before November 5, 2018.

FOR FURTHER INFORMATION CONTACT: Nancy-Ellen Zusman, Assistant Chief Counsel, Office of Chief Counsel, (312) 353-2577, or Alan Tabachnick, Environmental Protection Specialist, Office of Environmental Programs, (202) 366-8541. FTA is located at 1200 New Jersey Avenue SE, Washington, DC 20590. Office hours are from 9:00 a.m. to 5:00 p.m., Monday through Friday, except Federal holidays.

SUPPLEMENTARY INFORMATION: Notice is hereby given that FTA has taken final agency action by issuing a certain approval for the public transportation project listed below. The actions on the project, as well as the laws under which such actions were taken, are described in the documentation issued in connection with the project to comply with the National Environmental Policy Act (NEPA) and in other documents in the FTA administrative record for the project. Interested parties may contact either the project sponsor or the FTA Regional Office for more information. Contact information for FTA's Regional Offices may be found at https://www.fta.dot.gov.

This notice applies to all FTA decisions on the listed project as of the issuance date of this notice and all laws under which such actions were taken, including NEPA [42 U.S.C. 4321-4375], Section 4(f) requirements [23 U.S.C. 138, 49 U.S.C. 303], Section 106 of the National Historic Preservation Act [16 U.S.C. 470f], and the Clean Air Act [42 U.S.C. 7401-7671q]. This notice does not, however, alter or extend the limitation period for challenges of project decisions subject to previous notices published in the Federal Register. The project and action that is the subject of this notice follow:

Project name and location: Southwest Light Rail Transit Project (LRT), Minneapolis to Eden Prairie, Minnesota (METRO Green Line Extension). Project Sponsor: The Metropolitan Council (Council). Project description: The project is approximately 14.5 miles of new double-track light rail transit to extend the METRO Green Line from downtown Minneapolis through the communities of St. Louis Park, Hopkins, Minnetonka, and Eden Prairie, passing close to Edina. The Final Environmental Impact Statement (EIS) and Record of Decision (ROD) for the Southwest LRT Project was issued in May and July 2016, respectively. A Supplemental Environmental Assessment (EA) was issued in February 2018 to address and incorporate 10 design modifications that were identified during the final design and permitting processes, leading to the preparation of an Amended ROD.

Final agency actions: Amended Section 4(f) determination dated February 2018; Section 106 finding of adverse effect dated April 18, 2018; Section 106 Memorandum of Agreement dated June 2016; project-level air quality conformity, and an Amended Record of Decision dated May 15, 2018. Supporting documentation: Southwest LRT Project Supplemental EA and Amended Draft Section 4(f) Evaluation dated February 2018.

Elizabeth S. Riklin,
Deputy Associate Administrator for Planning and Environment.

[FR Doc. 2018-12238 Filed 6-6-18; 8:45 am]

BILLING CODE P